DEPARTMENT OF STATE

[Public Notice 4229]

Notice of Meetings: United States International Telecommunication Advisory Committee, International Telecommunication Union Telecommunications Development Advisory Group Preparations

The Department of State announces meetings of the U.S. International Telecommunication Advisory Committee. The purpose of the Committee is to advise the Department on policy and technical issues with respect to the International Telecommunication Union (ITU). The purpose of these meetings is to prepare for the 2003 meeting of the Telecommunications Development Advisory Group (TDAG).

An ITAC meeting will be held on Thursday, February 20, 2003, at the State Department from 10 am to 12 pm to begin preparations for the meeting of the ITU Telecommunications Development Advisory Group, which will take place March 19-21, 2003 in Geneva, Switzerland. An additional meeting is scheduled concerning preparations for the TDAG on Thursday, March 6, 2003 from 10 am to 12 pm. All of these meetings will be at the Department of State in rooms yet to be determined.

Members of the public may attend these meetings and are welcome to participate in the discussions, subject to the discretion of the Chair. Directions to meeting location and room assignments may be determined by calling the ITAC Secretariat at 202-647-2592. Entrance to the State Department is controlled; in order to get precleared for each meeting, people planning to attend should send an e-mail to worsleydm@state.gov no later than 48 hours before the meeting. This e-mail should include the name of the meeting and date of meeting, your name, social security number, date of birth, and organizational affiliation. One of the following valid photo identifications will be required for admission to the State Department: U.S. driver's license, passport, U.S. Government identification card. Enter the Department of State from the C Street Lobby; in view of escorting requirements, non-Government attendees should plan to arrive not less than 15 minutes before the meeting begins.

Dated: January 30, 2003.
Anne D. Jillson,
Foreign Affairs Officer, Bureau of Economic and Business Affairs, Department of State.

[FR Doc. 03-2922 Filed 2-5-03; 8:45 am]

BILLING CODE 4710-45-P